DEPARTMENT OF TRANSPORTATION

Federal Motor Carrier Safety Administration

[Docket No. FMCSA-2006-23727]

Notice of Intent To Survey Medical Examiners Who Certify the Physical Qualifications of Commercial Motor Vehicle Drivers

AGENCY: Federal Motor Carrier Safety Administration (FMCSA), DOT.

ACTION: Notice and request for comments.

SUMMARY: In accordance with the Paperwork Reduction Act of 1995, FMCSA announces the Information Collection Request (ICR) described below has been sent to the Office of Management and Budget (OMB) for review and approval. The ICR describes a proposed collection activity and its expected cost and burden. The Federal Register notice allowing for a 60-day comment period on the ICR was published on September 29, 2005. Three comments were received supporting the concept of a national registry of qualified medical examiners, but none specifically addressed the information collection process.

DATES: Comments must be received on or before August 14, 2006. OMB must receive your comments by this date to act quickly on the request.

ADDRESSES: Send comments to the Office of Information and Regulatory Affairs, Office of Management and Budget, 725 Seventeenth Street, NW., Washington, DC 20503, Attention: DOT/FMCSA Desk Officer.

FOR FURTHER INFORMATION CONTACT: Dr. Mary D. Gunnels, Chief, Physical Qualifications Division, (202) 366-4001, maggi.gunnels@dot.gov, FMCSA, Department of Transportation, 400 Seventh Street, SW., Room 8301, Washington, DC 20590-0001. Office hours are from 8:30 a.m. to 5 p.m, Monday through Friday, except Federal holidays.

SUPPLEMENTARY INFORMATION:

Background

Section 4116 of The Safe, Accountable, Flexible, Efficient Transportation Equity Act: A Legacy for Users (SAFETEA-LU) (Pub. L. 109-59, 119 Stat.1144 (August 10, 2005)) requires the Secretary of Transportation “to establish and maintain a current national registry of medical examiners who are qualified to perform examinations and issue medical certificates.” To implement this requirement, the Federal Motor Carrier Safety Administration (FMCSA) is developing the National Registry of Certified Medical Examiners (NRCME) program that was announced at a June 22, 2005, public meeting in Arlington, Virginia (70 FR 28596; May 18, 2005). The NRCME would be comprised, in part, of a training and testing program and include a database of qualified medical examiners. These examiners would conduct medical examinations of interstate commercial motor vehicle (CMV) drivers and determine their physical qualifications to operate CMVs in interstate commerce as defined in 49 CFR part 391. The NRCME program would require training using a standardized curriculum, a certification test, and procedures to maintain the quality of the program in accordance with national accreditation standards. Once the program is implemented, FMCSA would accept as valid only medical examinations conducted only by NRCME medical examiners.

A Role Delineation Study is a critical component of developing a standardized training curriculum and valid, reliable, and fair certification test. The goal of the Role Delineation Study is to inform the policies that guide the NRCME program in accordance with national accreditation standards. The study is an assessment of the knowledge, skills, and abilities necessary for a medical examiner to perform competently. The Role Delineation Study incorporates the following components: (1) Develop a medical examiner task list through a variety of techniques; (2) measure agreement on each task in the list by a representative sample of medical examiners; (3) disqualify tasks lacking sufficient agreement; (4) identify critical tasks; and (5) create specifications for a certification test. The information derived from the Role Delineation Study is necessary to form the basis of a professionally sound quality management system that supports accreditation of the certification program. A survey of medical examiners is one of the techniques for gathering data from FMCSA medical examiners for the Role Delineation Study.

Respondents: Members of the five medical examiner professional categories: Advanced Practice Nurses (APNs), Doctors of Chiropractic (DCs), Doctors of Osteopathy (DOs), Medical Doctors (MDs), and Physician Assistants (PAs) who are currently performing FMCSA physical examinations of CMV drivers.

Estimated Number of Respondents: 4,000.

Frequency of Response: One time.

Average Burden per Response: The estimated average burden per response for each survey is 60 minutes.

Estimated Total Annual Burden: The estimated total annual burden is 4,000 hours for the information collection based on the following requirement for statistical significance: 800 responses for each of the five medical examiner professional categories; [4,000 respondents per survey × 1 hour per respondent = 4,000 hours].

We particularly request comments on the necessity and usefulness of the collection of information for FMCSA to meet its goal of reducing truck and bus crashes; the accuracy of the estimate of the burden of the information collected; suggestions to enhance the quality, utility and clarity of the information collected; and suggestions to minimize the burden of the collection of information on respondents, including using automated collection techniques or other forms of information technology.

Issued on: July 3, 2006.
John H. Hill,
Acting Administrator.

[FR Doc. E6-11005 Filed 7-12-06; 8:45 am]

BILLING CODE 4910-EX-P